DEPARTMENT OF TRANSPORTATION

Office of the Secretary

Notice of Aviation Proceedings

Notice of Applications for Certificates of Public Convenience and Necessity and Foreign Air Carrier Permits Filed Under Subpart Q during the Week Ending November 17, 2000. The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8291.

Date Filed: November 13, 2000.

Due Date for Answers, Conforming Applications, or Motion to Modify Scope: December 4, 2000.

Description: Application of Corporate Flight Management, Inc. pursuant to 49 U.S.C. 41738 and Subpart B, requests the transfer of its commuter air carrier authority to Corporate Airlines, Inc.

Docket Number: OST-2000-8355.

Date Filed: November 17, 2000.

Due Date for Answers, Conforming Applications, or Motion to Modify Scope: December 8, 2000.

Description: Joint Application of United Air Lines, Inc., US Airways, Inc., and Allegheny Airlines, Inc. pursuant to 49 U.S.C. Section 41105 and Subpart B apply, to the extent necessary, for approval of the de facto certificate transfer that will result from the acquisition of the outstanding shares of US Airways Group, Inc., the corporate parent of US Airways and Allegheny, by UAL Corporation (“UAL”), the corporate parent of United.

Dorothy Y. Beard,
Federal Register Liaison.

[FR Doc. 00-31925 Filed 12-13-00; 8:45 am]

BILLING CODE 4910-62-P